DEPARTMENT OF LABOR

Employment and Training Administration

Notice of Availability of Funds and Solicitation for Grant Applications for Disability Employment Initiative Grants

AGENCY: Employment and Training Administration, Labor.

ACTION: Notice of Solicitation for Grant Applications (SGA).

Funding Opportunity Number: SGA/DFA PY 13-11

SUMMARY: The Employment and Training Administration (ETA), in coordination with the Department's Office of Disability Employment Policy, announces the availability of approximately $15 million in grant funds authorized by Section171 of the Workforce Investment Act of 1998 for the Round V Disability Employment Initiative. We expect to fund approximately eight grants, ranging from $1.5 million to $2.5 million each. Applicants may apply for up to $2.5 million.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is July 8, 2014. Applications must be received no later than 4:00:00 p.m. Eastern Time.

FOR FURTHER INFORMATION CONTACT: Cam Nguyen, 200 Constitution Avenue NW., Room N-4716, Washington, DC 20210; Email: Nguyen.Cam@dol.gov.

Signed: May 28, 2014 in Washington, DC.
Eric D. Luetkenhaus,
Grant Officer, Employment and Training Administration.

[FR Doc. 2014-12784 Filed 6-2-14; 8:45 am]

BILLING CODE 4510-FN-P